SMALL BUSINESS ADMINISTRATION

[Disaster Declaration # 10519 and # 10520]

New York Disaster Number NY-00022

AGENCY: Small Business Administration.

ACTION: Amendment 1.

SUMMARY: This is an amendment of the Presidential declaration of a major disaster for the State of New York (FEMA-1650-DR), dated 07/03/2006.

Incident: Severe Storms and Flooding.

Incident Period: 06/26/2006 and continuing through 07/10/2006.

Effective Date: 07/10/2006.

Physical Loan Application Deadline Date: 09/01/2006.

EIDL Loan Application Deadline Date: 04/03/2007.

ADDRESSES: Submit completed loan applications to: U.S. Small Business Administration, National Processing and Disbursement Center, 14925 Kingsport Road Fort Worth, TX 76155.

FOR FURTHER INFORMATION CONTACT: A. Escobar, Office of Disaster Assistance, U.S. Small Business Administration, 409 3rd Street, SW., Suite 6050, Washington, DC 20416.

SUPPLEMENTARY INFORMATION: The notice of the President's major disaster declaration for the State of New York, dated 07/03/2006, is hereby amended to establish the incident period for this disaster as beginning 06/26/2006 and continuing through 07/10/2006.

All other information in the original declaration remains unchanged.

(Catalog of Federal Domestic Assistance Numbers 59002 and 59008)

Cheri L. Cannon,
Acting Associate Administrator for Disaster Assistance.

[FR Doc. E6-11785 Filed 7-24-06; 8:45 am]

BILLING CODE 8025-01-P